DEPARTMENT OF COMMERCE

International Trade Administration

[A-552-801]

Certain Frozen Fish Fillets from the Socialist Republic of Vietnam: Extension of Time Limit for Final Results of the New Shipper and Fourth Antidumping Duty Administrative Review

AGENCY: Import Administration, International Trade Administration, Department of Commerce.

EFFECTIVE DATE: October 24, 2008.

FOR FURTHER INFORMATION CONTACT: Alan Ray, AD/CVD Operations, Office 9, Import Administration, International Trade Administration, U.S. Department of Commerce, 14th Street and Constitution Avenue, N.W., Washington, DC 20230; telephone: (202) 482-5403.

SUPPLEMENTARY INFORMATION:

Background

On September 8, 2008, the Department of Commerce (“Department”) published the preliminary results of these new shipper and administrative reviews for the period August 1, 2006, through July 31, 2007. See Certain Frozen Fish Fillets From the Socialist Republic of Vietnam: Notice of Preliminary Results of the New Shipper Review and Fourth Antidumping Duty Administrative Review and Partial Rescission of the Fourth Administrative Review, 73 FR 52015 (September 8, 2008) (“Preliminary Results”). The final results are currently due on January 6, 2009.

Extension of Time Limits for Final Results

Section 751(a)(3)(A) of the Tariff Act of 1930, as amended (“Act”), and 19 CFR 351.213(h)(1) require the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department finds that it is not practicable to complete the final results in the aligned new shipper and fourth antidumping duty administrative reviews of certain frozen fish fillets from Vietnam within this time limit. See Memo to File re: Certain Frozen Fish Fillets from the Socialist Republic of Vietnam: Alignment of the New Shipper Review of Binh An Seafood Joint Stock Co. (“Binh An”) with the 4th Administrative Review (May 23, 2008), and Memo to File re: Certain Frozen Fish Fillets from the Socialist Republic of Vietnam: Alignment of the New Shipper Review of Southern Fishery Industries Co., Ltd. (“South Vina”) with the 4th Administrative Review (September 3, 2008). The Department is extending the deadline because additional time is needed to issue the verification reports of the new shipper reviews. Furthermore, the Department requires additional time to complete the final results because it intends to provide parties additional time to submit case and rebuttal briefs. For the reasons noted above, we are extending the time for the completion of the final results of this review by 60 days to March 7, 2009. As March 7, 2009, falls on a Saturday, we will issue our final results no later than Monday, March 9, 2009.

This notice is published in accordance with section 751(a)(3)(A) of the Act and 19 CFR 351.213(h)(2).

Dated: October 20, 2008.
Stephen J. Claeys,
Deputy Assistant Secretary for Import Administration.

[FR Doc. E8-25438 Filed 10-23-08; 8:45 am]

BILLING CODE 3510-DS-S